DEPARTMENT OF HOMELAND SECURITY

Coast Guard

33 CFR Parts 155 and 157

46 CFR Part 162

[USCG-2004-18939]

RIN 1625-AA90

Pollution Prevention Equipment

AGENCY: Coast Guard, DHS.

ACTION: Correction to notice of proposed rulemaking.

SUMMARY: This document contains corrections to the notice of proposed rulemaking published in the Federal Register on November 3, 2005. The proposed rule would revise Coast Guard pollution prevention equipment regulations to make them consistent with new International Maritime Organization (IMO) guidelines and specifications issued under the International Convention for the Prevention of Pollution from Ships (MARPOL) Annex I.

FOR FURTHER INFORMATION CONTACT: For questions on this correction document, call LCDR George Grills, Systems Engineering Division (G-MSE-3), Office of Design and Engineering Standards, U.S. Coast Guard, telephone 202-267-6640.

SUPPLEMENTARY INFORMATION:

Need for Correction

The NPRM, as published, contained a phrase in the preamble and regulatory text that was inserted by error. This phrase could confuse the reader and needs to be deleted.

Correction of Publication

Accordingly, the publication on November 3, 2005, of the NPRM [USCG-2004-18939], FR Doc. 05-21573, is corrected as follows:

1. On page 67068, in the first column, under the heading “Proposed Action”, in the tenth line of the third bullet, following the word “drift”, remove the phrase, “must be limited”.

2. On page 67073, in the first column, in paragraph (e), following the word “drift” on the second line, remove the phrase “must be limited;” in the third line.

Dated: November 30, 2005.
Steve Venckus,
Chief, Office of Regulations and, Administrative Law, Office of the Judge Advocate General, U.S. Coast Guard.

[FR Doc. 05-24067 Filed 12-14-05; 8:45 am]

BILLING CODE 4910-15-P